DEPARTMENT OF TRANSPORTATION

Federal Highway Administration

Environmental Impact Statement: Wythe County, VA

AGENCY: Federal Highway Administration, DOT.

ACTION: Notice of intent.

SUMMARY: The Federal Highway Administration (FHWA) is issuing this notice to advise the public of its intent to prepare an Environmental Impact Statement in cooperation with the Virginia Department of Transportation (VDOT) for the I-77/I-81 Improvement Project in Wythe County to address safety and capacity issues.

FOR FURTHER INFORMATION CONTACT: John Simkins, Environmental Protection Specialist, Federal Highway Administration, Post Office Box 10249, Richmond, Virginia 23240-0249, Telephone 804-775-3342.

SUPPLEMENTARY INFORMATION: The Federal Highway Administration (FHWA), in cooperation with the Virginia Department of Transportation (VDOT), will prepare an environmental impact statement (EIS) for the I-77/I-81 Improvement Project in Wythe County. Interstates 77 and 81 currently share a common corridor for approximately nine miles from immediately east of Fort Chiswell to the Town of Wytheville. The study area's limits begin just west of I-81 exit 70 and extend east for a distance of approximately 15 miles, ending west of the I-81 exit 84. The study window's southern limits begin along I-77, approximately three miles south of the I-77/I-81 interchange. The northern limits are located near Cove Mountain, north of the I-77/I-81 separation in Wytheville.

Recognizing that the National Environmental Policy Act (NEPA) process requires the consideration of a reasonable range of alternatives that will address the purpose and need, the EIS will include a range of alternatives for study consisting of a no-build alternative as well as alternatives consisting of transportation system management strategies, mass transit, improvements to existing roadways, and/or new alignment facilities. These alternatives will be developed, screened, and carried forward for analysis in the draft EIS based on their ability to address the purpose and need that will be developed while avoiding known and sensitive resources.

The scoping process is currently underway. Scoping letters describing the proposed study and soliciting input are being sent to the appropriate Federal, State and local agencies who have expressed or are known to have an interest or legal role in this proposal. Private organizations, citizens, and interest groups also will have an opportunity to provide input into the development of the EIS and identify issues that should be addressed. No formal scoping meeting is planned at this time.

A series of public informational meetings and a public hearing will be held. Notices of public meetings or public hearings will be given through various forums providing the time and place of the meeting along with other relevant information. The draft EIS will be available for public and agency review and comment prior to the public hearing.

To ensure that the full range of issues related to this proposed action are identified and taken into account, comments and input are invited from all interested parties. Comments and questions concerning the proposed action and draft EIS should be directed to FHWA at the address provided above.

(Catalog of Federal Domestic Assistance Program Number 20.205, Highway Planning and Construction. The regulations implementing Executive Order 12372 regarding intergovernmental consultation on Federal programs and activities apply to this proposed action.)

Authority: 23 U.S.C. 315; 49 CFR 1.48

Issued on: May 3, 2001.
John Simkins,
Environmental Protection Specialist.

[FR Doc. 01-11795 Filed 5-9-01; 8:45 am]

BILLING CODE 4910-22-M